DEPARTMENT OF ENERGY

Western Area Power Administration

[DOE/EIS-0469]

Notice of Intent To Prepare an Environmental Impact Statement and to Conduct Scoping Meetings; Proposed Wilton IV Wind Energy Center Project, North Dakota

AGENCY: Western Area Power Administration, DOE.

ACTION: Notice.

SUMMARY: NextEra Energy Resources (NextEra) applied to interconnect its proposed 99-megawatt (MW) Wilton IV Wind Energy Center Project (Project) with Western Area Power Administration's (Western) existing Hilken Switching Station in Burleigh County, North Dakota. The proposed Project would consist of up to 62 1.6-MW wind turbine generators and associated infrastructure located across approximately 15,725 acres of land in Burleigh County, about 20 miles north of Bismarck. In addition to constructing and operating the above proposed Project, NextEra has requested to operate its nearby existing Wilton I (also known as Burleigh), Wilton II, and Baldwin Wind Energy Center projects at levels exceeding 50 average annual MW, when wind conditions warrant. Western will prepare an environmental impact statement (EIS) on NextEra's proposal to interconnect their Project and to operate its existing projects above 50 average annual MW in accordance with the National Environmental Protection Act (NEPA), U.S. Department of Energy (DOE) NEPA Implementing Procedures, and the Council on Environmental Quality (CEQ) regulations for implementing NEPA. Portions of NextEra's proposed Project may affect floodplains and wetlands, so this Notice of Intent (NOI) also serves as a notice of proposed floodplain or wetland action in accordance with DOE floodplain and wetland environmental review requirements.

DATES: A public scoping meeting will be held on July 26, 2011, from 5 to 8 p.m. in Wilton, North Dakota. Local notification of this meeting has been made through direct mailings to affected parties and by advertising in local media to ensure at least 15 days of prior notice. The public scoping period starts with the publication of this notice and ends on September 6, 2011. Western will consider all comments on the scope of the EIS received or postmarked by that date. The public is invited to submit comments on the proposed Project at any time during the EIS process.

ADDRESSES: Western will host a public scoping meeting at the Wilton Memorial Hall, 105 Dover Avenue, Wilton, North Dakota, to provide information on the Project and gather comments on the proposal. Oral or written comments may be provided at the public scoping meeting or mailed or e-mailed to Matt Marsh, Upper Great Plains Regional Office, Western Area Power Administration, P.O. Box 35800, Billings, MT 59107-5800, e-mail MMarsh@wapa.gov, telephone (800) 358-3415.

FOR FURTHER INFORMATION CONTACT: For additional information on the proposed Project, the EIS process, or to receive a copy of the Draft EIS when it is published, contact Matt Marsh at the addresses above. For general information on the DOE's NEPA review process, contact Carol M. Borgstrom, Director of NEPA Policy and Compliance, GC-54, U.S. Department of Energy, 1000 Independence Avenue, SW., Washington, DC 20585-0119, telephone (202) 586-4600 or (800) 472-2756, facsimile (202) 586-7031.

SUPPLEMENTARY INFORMATION: Western is a Federal power marketing agency within the DOE that markets and delivers Federal wholesale electric power (principally hydroelectric power) to municipalities, rural electric cooperatives, public utilities, irrigation districts, Federal and State agencies, and Native American tribes in 15 western and central states. NextEra's proposed Project would be located within Western's Upper Great Plains Region, which operates in North and South Dakota, most of Montana, and portions of Iowa, Minnesota, and Nebraska. Western will prepare an EIS on NextEra's application to interconnect their proposed Wilton IV Wind Project and their proposal to operate its three existing projects above 50 average annual MW, when feasible, in accordance with NEPA (42 U.S.C. 4321-4347); DOE NEPA Implementing Procedures (10 CFR part 1021), and the CEQ regulations for implementing NEPA (40 CFR Parts 1500-1508).¹ Projects generating more than 50 average annual MW normally require the preparation of an EIS under DOE NEPA regulations.

¹ On October 4, 1999, DOE's Assistant Secretary for Environmental, Safety and Health delegated to Western's Administrator the authority to approve EISs for integrating transmission facilities with Western's transmission grid.

Western will coordinate with appropriate Federal, State, and local agencies and potentially affected Native American tribes during the preparation of the EIS. While there are no designated cooperating agencies at this time, cooperating agencies could be identified at a later date.

Purpose and Need for Agency Action

Western's need for agency action is precipitated by NextEra's application to interconnect its proposed Wilton IV Wind Project with Western's power transmission system, and its intention of operating the three existing wind energy center projects at a level exceeding 50 average annual MW. Western needs to consider NextEra's interconnection request under Western's Open Access Transmission Service Tariff (Tariff), which provides for interconnection to its transmission system if there is available transmission capacity.

This EIS will address Western's Federal action of interconnecting NextEra's proposed Project with its Hilken Switching Station. As part of its normal interconnection analysis, Western determines if any changes within the substation or any system modifications are needed to accommodate the interconnection. In this case the physical interconnection is already in place and operating at Hilken, and preliminary studies indicate that the power system can accommodate the proposed interconnection without negatively affecting system reliability or power deliveries to existing customers. However, final system studies could still determine that network and/or transmission system upgrades are required. Any such upgrades would be funded by NextEra as a condition of the interconnection.

NextEra's proposal to operate the existing Wilton I, Wilton II, and Baldwin Wind Energy Center projects at levels exceeding 50 average annual MW creates the need for Western to revisit the interconnection agreements prepared for each of these projects. Projects generating over 50 average annual MW normally require the preparation of an EIS under DOE NEPA regulations, and the existing interconnection agreements call for curtailing generation, or completing an EIS prior to generating above that cap. None of the environmental assessments ² originally prepared for these projects identified potential significant impacts resulting from the construction, operation, and maintenance of the three wind energy projects.

² Burleigh County Wind Energy Center, Burleigh County, North Dakota [Wilton I], DOE/EA-1542, 2006; EA Supplement to DOE/EA-1542 [Wilton II], 2009; Baldwin Wind Energy Center Project, Burleigh County, North Dakota, DOE/EA-1698, 2010.

Proposed Action

In compliance with the provisions of the Tariff, and considering the environmental impacts of NextEra's proposed Project as identified by the EIS process, Western will consider NextEra's interconnection request. If approved, any necessary system changes would be made to accomplish the interconnection, and power generated by the proposed Project would use Western's transmission system to reach the market. Western will contact the U.S. Fish and Wildlife Service under section 7 of the Endangered Species Act and the North Dakota State Historic Preservation Office under section 106 of the National Historic Preservation Act. Section 7 and 106 consultations were completed in 2010 on some of the proposed wind turbine locations as part of the Baldwin project, and additional coordination with these agencies will build off of these previous consultations.

Alternatives

Western must respond to NextEra's proposed Project as it is described in their application for interconnection, and make a decision on the interconnection request based on that application. NextEra's interconnection request essentially results in an increase in the amount of power entering Western's transmission system through existing facilities; no physical modifications to Western's facilities or the transmission system are anticipated at this time. Under the no action alternative, Western would not approve the interconnection request, and NextEra would not be able to export the generation from its proposed Project over Western's transmission system.

The current interconnection agreements for the Wilton I, Wilton II, and Baldwin Wind Energy Center projects contain language that prevent these projects from exceeding 50 average annual MW. Western would remove this language under the proposed action. Under the no action alternative, the existing language would remain in force, and NextEra would be unable to operate any of these three projects above the 50 average annual MW cap.

Applicant's Proposed Project

NextEra proposes to construct 62 1.6-MW wind turbine generators in Crofte, Ecklund, Ghylin, Painted Woods, and Rocky Hill townships in Burleigh County, North Dakota, approximately 20 miles north of Bismarck. Each turbine would be up to 426 feet tall from tip of blade to base, and about 260 feet tall from the ground to the hub. The three-bladed rotors would have a diameter of approximately 328 feet, or 100 meters. The proposed Project would also include all-weather access roads to each turbine location, and underground power collection lines linking the turbines to Central Power Electric Cooperative's existing 4.4-mile 230-kilovolt (kV) generation tie-line that terminates at Western's Hilken Switching Station. The Western interconnection point for NextEra's proposed Project would be at the Hilken Switchyard. The Hilken Switching Station is located on Western's Garrison—Bismarck 230-kV transmission line.

NextEra's proposed Project would be an expansion of its three existing wind energy projects in the area. Of the 62 proposed Wilton IV Wind Project wind turbines, 37 are located in a 10,000-acre area within Crofte Township, adjacent to and immediately to the west of NextEra's existing wind energy projects. These 37 wind turbine sites were considered as alternate locations for the Baldwin Project, and were analyzed for potential environmental impacts in the Baldwin environmental assessment. The wind turbines would be arrayed in several strings, generally oriented southwest to northeast, in an area roughly six miles square. Cultural resources and biological resources field surveys were accomplished for these wind turbine locations during the NEPA process for the Baldwin Project, which was completed in 2010. The remaining 25 wind turbines would be located in Ecklund, Ghylin, Painted Woods, and Rocky Hill townships within a 5,725-acre area. These turbine strings would be generally oriented east to west over approximately 4 miles immediately east of NextEra's existing wind energy projects. The potential environmental impacts of these 25 turbines will be analyzed as part of this EIS, and cultural and biological surveys will be conducted on these sites and any other potentially disturbed areas not already included in the Baldwin environmental assessment.

The proposed Project would generate about 99 nameplate MW on the two separate areas totaling approximately 15,725 acres. The proposed wind energy project would be located entirely on private lands; no Federal or State land would be affected.

In addition to constructing and operating the proposed Project as described above, NextEra has requested to operate its nearby existing Wilton I, Wilton II, and Baldwin Wind Energy Center projects at levels exceeding 50 average annual MW, when wind conditions warrant. Projects generating more than 50 average annual MW normally require the preparation of an EIS under DOE NEPA regulations (10 CFR Part 1021). These projects were originally analyzed in environmental assessments based in part on their anticipated output being under 50 average annual MW, and the interconnection agreements include a cap at that generation level unless an EIS is prepared. NextEra now believes that wind conditions may allow operation of the three wind projects above 50 average annual MW, and would like to generate above the cap, if possible. NextEra's proposal to potentially operate above the 50 average annual MW level creates the need for Western to revisit the existing interconnection agreements that include this limitation. No physical modifications to the existing wind generation projects are proposed; the requested interconnection agreement amendments would simply allow for more hours of generation if wind conditions are favorable but still within the stated nameplate capacity.

Western's Federal action is to consider the interconnection request, any resultant impact to the transmission system, and the change in operating parameters for the other three existing projects; however, the EIS will also identify and review the environmental impacts of constructing, operating, maintaining, and decommissioning NextEra's proposed Wilton IV Project. NextEra would be responsible for completing necessary coordination with State and local agencies to permit its proposed Project.

Floodplain or Wetland Involvement

Floodplains and wetlands are common in this part of North Dakota. Since the proposed Project may involve action in floodplains or wetlands, this NOI also serves as a notice of proposed floodplain or wetland action. The EIS will include an assessment of impacts to floodplains and wetlands, and floodplain statement of findings following DOE regulations for compliance with floodplain and wetlands environmental review (10 CFR Part 1022).

Environmental Issues

The location of NextEra's proposed Project is in a relatively sparsely populated portion of southcentral North Dakota. The area is characterized by extensive agriculture and pasture with scattered farmsteads on section line roads. NextEra has secured leases with willing landowners for its wind generation turbines and related facilities. Available overview information and the results of the NEPA analyses on the existing three wind projects indicates this area has a relatively low probability of substantial natural resources conflicts. NextEra's siting process for the wind turbine strings and associated facilities considered sensitive resources, and the proposed Project was designed to avoid these areas. The EIS will review the environmental information collected on the Project area, including that already collected as part of the Baldwin project, and evaluate the level of impact the interconnection and NextEra's proposed Project would have on environmental resources within the approximately 15,725-acre site. Modifications to NextEra's proposed Project may be made to avoid or minimize resource impacts. While no substantive resource conflicts have been identified thus far, the EIS will analyze the potential impacts on the full range of potentially affected environmental resources. Wind farm projects are generally known to have visual and noise effects, and may affect birds and bats.

Public Participation

Interested parties are invited to participate in the scoping process to help define the scope of the EIS, significant resources, and issues to be analyzed in depth, and to eliminate from detailed study issues that are not pertinent. The scoping process will involve all interested agencies (Federal, State, county, and local), Native American tribes, public interest groups, businesses, affected landowners, and individual members of the public.

Western has previously consulted with potentially affected or interested tribes to jointly evaluate and address the potential effects on cultural resources, traditional cultural properties, or other resources important to the tribes in the proposed Project area. Western will contact previously identified interested tribes and inform them that NextEra now intends to expand its wind energy projects in this area. Any nation-to-nation consultations will be conducted in accordance with Executive Order 13175, Consultation and Coordination with Indian Tribal Governments (65 FR 67249), the President's memorandum of April 29, 1994, Government-to-Government Relations with Native American Tribal Governments (59 FR 22951), DOE-specific guidance on tribal interactions, and applicable natural and cultural resources laws and regulations.

A public scoping meeting will be held as described under DATES and ADDRESSES above. The meeting will be informal, and attendees will be able to speak directly with Western and NextEra representatives about the proposed Project. The public is encouraged to provide information and comments on issues it believes Western should address in the EIS. Comments may be broad in nature or restricted to specific areas of concern. After gathering comments on the scope of the EIS, Western will address those issues raised in the EIS. Comments on Western's proposed action and NextEra's proposed Project will be accepted at any time during the EIS process, and may be directed to Western as described under ADDRESSES above.

Western's EIS process will include this NOI and public scoping meetings; consultation and coordination with appropriate Federal, State, county, and local agencies and tribal governments; involvement with affected landowners; distribution of and public review and comment on the Draft EIS; a formal public hearing or hearings on the Draft EIS; distribution of a published Final EIS; and publication of Western's Record of Decision in the Federal Register.

Dated: July 7, 2011.
Timothy J. Meeks,
Administrator.

[FR Doc. 2011-17997 Filed 7-19-11; 8:45 am]

BILLING CODE 6450-01-P